ENVIRONMENTAL PROTECTION AGENCY

40 CFR Part 52

[EPA-R05-OAR-2023-0515; EPA-R05-OAR-2023-0516; EPA-R05-OAR-2023-0517; FRL-11718-01-R5]

Adequacy Status of the Allegan, Berrien, and Muskegon Counties, Michigan Submitted Reasonable Further Progress Plan for Transportation Conformity Purposes

AGENCY: Environmental Protection Agency (EPA).

ACTION: Notification of adequacy.

SUMMARY: In this document, the Environmental Protection Agency (EPA) is notifying the public that we have found that the volatile organic compounds (VOC) and nitrogen oxides (NOX) motor vehicle emissions budgets (budgets) in the submitted 2015 Ozone moderate Reasonable Further Progress (RFP) plan for Allegan, Berrien, and Muskegon Counties are adequate for conformity purposes. As a result of our finding, these areas must use the budgets from the submitted RFP plan for future conformity determinations.

DATES: This finding is effective April 15, 2024.

FOR FURTHER INFORMATION CONTACT: Michael Leslie, Control Strategies Section, Air Programs Branch (AR 18J), Environmental Protection Agency, Region 5, 77 West Jackson Boulevard, Chicago, Illinois 60604, (312) 353-6680; leslie.michael@epa.gov.

SUPPLEMENTARY INFORMATION: This notice is simply an announcement of a finding that we have already made. EPA Region 5 sent a letter to the Michigan Department of Environment, Great Lakes, and Energy on January 17, 2024, stating that the VOC and NOX budgets for Allegan, Berrien, and Muskegon Counties submitted in the 2015 RFP plan for the 2023 milestone year are adequate. The finding is available at EPA's conformity website: http://www.epa.gov/otaq/stateresources/transconf/adequacy.htm.

The budgets are as follows:

2023 VOC and NOX RFP budgets for the Allegan, Berrien, and Muskegon Counties Ozone Areas
[Listed in tons per day (tpd)]
Area | NOX (tpd) | VOC (tpd)
Allegan County | 1.15 | 0.70
Berrien County | 2.98 | 1.85
Muskegon County | 1.73 | 1.74

Transportation conformity is required by Clean Air Act section 176(c). EPA's conformity rule requires that transportation plans, transportation improvement programs, and projects conform to air quality state implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We've described our process for determining the adequacy of submitted SIP budgets in our July 1, 2004, preamble starting at 69 FR 40038 and we used the information in these resources in making our adequacy determination. Please note that an adequacy review is separate from EPA's completeness review and should not be used to prejudge EPA's ultimate approval action for the SIP. Even if we find a budget adequate, the SIP could later be disapproved.

The finding is available at EPA's conformity website: https://www.epa.gov/otaq/stateresources/transconf/adequacy.htm.

Authority: 42 U.S.C. 7401-7671q.

Dated: February 22, 2024.
Debra Shore,
Regional Administrator, Region 5.

[FR Doc. 2024-06372 Filed 3-28-24; 8:45 am]

BILLING CODE 6560-50-P